THE NATIONAL FOUNDATION FOR THE ARTS AND THE HUMANITIES

Institute of Museum and Library Services

Notice of Proposed Information Collection Requests: Maker/STEM Education Support for 21st Century Community Learning Centers Program Evaluation

AGENCY: Institute of Museum and Library Services, National Foundation for the Arts and the Humanities.

ACTION: Notice, request for comments, collection of information.

SUMMARY: The Institute of Museum and Library Services (IMLS), as part of its continuing effort to reduce paperwork and respondent burden, conducts a preclearance consultation program to provide the general public and Federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this notice is to solicit comments concerning a proposed survey and interviews to document the implementation of the Maker/STEM Education Support for 21st Century Community Learning Centers (21st CCLC) program and investigate outcomes for museum staff, 21st CCLC staff, and youth participants. A copy of the proposed information collection request can be obtained by contacting the individual listed below in the ADDRESSES section of this notice.

DATES: Written comments must be submitted to the office listed in the addressee section below on or before November 30, 2020.

ADDRESSES: Send comments to Connie Bodner, Ph.D., Director of Grants Policy and Management, Office of Grants Policy and Management, Institute of Museum and Library Services, 955 L'Enfant Plaza North SW, Suite 4000, Washington, DC 20024-2135. Dr. Bodner can be reached by Telephone: 202-653-4636 or by email at cbodner@imls.gov, or by teletype (TTY/TDD) for persons with hearing difficulty at 202-653-4614. Office hours are from 8:30 a.m. to 5 p.m., E.T., Monday through Friday, except Federal holidays.

FOR FURTHER INFORMATION CONTACT: Reagan Moore, Senior Program Officer, Office of Museum Services, Institute of Museum and Library Services, 955 L'Enfant Plaza North SW, Suite 4000, Washington, DC 20024-2135. Ms. Moore can be reached by Telephone: 202-653-4637, or by email at rmoore@imls.gov, or by teletype (TTY/TDD) for persons with hearing difficulty at 202-653-4614.

SUPPLEMENTARY INFORMATION: IMLS is particularly interested in public comment that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

I. Background

The Institute of Museum and Library Services is the primary source of Federal support for the Nation's libraries and museums. We advance, support, and empower America's museums, libraries, and related organizations through grant making, research, and policy development. Our vision is a nation where museums and libraries work together to transform the lives of individuals and communities. To learn more, visit www.imls.gov.

II. Current Actions

The Maker/STEM Education Support for 21st Century Community Learning Centers program is designed to enhance science, technology, engineering, and math (STEM) education learning in 21st CCLC programs by providing 21st CCLC site staff with maker-related professional development, and a curriculum and activities to implement with youth at approximately forty 21st CCLC sites across seven states. The purpose of this collection is to document the program's implementation across these sites and investigate the associated outcomes for participating youth, 21st CCLC site staff, and museum staff.

The evaluation is intended to provide insight for programmatic improvements and learning for potential future implementations. Methods will include qualitative and quantitative data collection via a mixed methods approach. Data collection activities will include interviews with 21st CCLC youth, staff, and museum staff, and surveys with 21st CCLC staff.

Agency: Institute of Museum and Library Services.

Title: Maker/STEM Education Support for 21st Century Community Learning Centers Program Evaluation.

OMB Control Number: 3137-0108.

Agency Number: 3137.

Respondents/Affected Public: Museum staff, 21st CCLC staff, and 21st CCLC youth participants.

Total Estimated Number of Annual Respondents: 115.

Frequency of Response: One-time collection anticipated.

Average Minutes per Response: Adult surveys: 20 minutes; adult interviews: 45 minutes; youth interviews: 10 minutes.

Total Estimated Number of Annual Burden Hours: 51 hours.

Cost Burden (dollars): To be determined.

Public Comments Invited: Comments submitted in response to this notice will be summarized and/or included in the request for OMB's clearance of this information collection.

Dated: September 29, 2020.
Kim Miller,
Senior Grants Management Specialist, Institute of Museum and Library Services.

[FR Doc. 2020-21857 Filed 10-1-20; 8:45 am]

BILLING CODE 7036-01-P